DEPARTMENT OF COMMERCE

Foreign-Trade Zones Board

[Order No. 1271]

Approval for Expansion of Foreign-Trade Zone 84; Houston, TX, Area

Pursuant to its authority under the Foreign-Trade Zones Act of June 18, 1934, as amended (19 U.S.C. 81a-81u), the Foreign-Trade Zones Board (the Board) adopts the following Order:

Whereas, the Port of Houston Authority, grantee of Foreign-Trade Zone 84, submitted an application to the Board for authority to expand FTZ 84 to include a site at the Williams Terminals Holdings, L.P., petroleum products terminal (Site 15), located near Galena Park (Harris County), Texas, within the U.S. Customs Service Houston port of entry (FTZ Docket 28-2002; filed June 25, 2002), and,

Whereas, notice inviting public comment was given in the Federal Register (67 FR 44172, July 1, 2002), the application has been processed pursuant to the FTZ Act and the Board's regulations; and,

Whereas, the Board adopts the findings and recommendations of the examiner's report, and finds that the requirements of the FTZ Act and the Board's regulations are satisfied, and that approval of the application is in the public interest;

Now, therefore, the Board hereby orders:

The application to expand FTZ 84 is approved, subject to the FTZ Act and the Board's regulations, including § 400.28.

Signed at Washington, DC, this 21st day of March, 2003.
Joseph A. Spetrini,
Acting Assistant Secretary of Commerce for Import Administration, Alternate Chairman, Foreign-Trade Zones Board.
Dennis Puccinelli,
Executive Secretary.

[FR Doc. 03-7689 Filed 3-28-03; 8:45 am]

BILLING CODE 3510-DS-P